POSTAL SERVICE

39 CFR Part 111

Express Mail Sunday/Holiday Delivery Premium

AGENCY: Postal Service.

ACTION: Final rule.

SUMMARY: The Postal Service™ is revising Express Mail® service to reflect a premium of $12.50 in addition to current postage for guaranteed Sunday or holiday delivery of Express Mail pieces.

DATES: Effective Date: March 3, 2008.

FOR FURTHER INFORMATION CONTACT: Bert Olsen, 202-268-7276.

We adopt the following amendments to Mailing Standards of the United States Postal Service, Domestic Mail Manual (DMM®), incorporated by reference in the Code of Federal Regulations. See 39 CFR 111.1.

List of Subjects in 39 CFR Part 111

Administrative practice and procedure, Postal Service.

Accordingly, 39 CFR part 111 is amended as follows:

PART 111—[AMENDED]

1. The authority citation for 39 CFR part 111 is revised to read as follows:

Authority: 5 U.S.C. 552(a); 39 U.S.C. 101, 401, 403, 404, 414, 416, 3001-3011, 3201-3219, 3403-3406, 3626, 3632, 3633, 5001.

2. Revise the following sections of Mailing Standards of the United States Postal Service, Domestic Mail Manual (DMM), as follows:

* * * * *

100 Retail Letters, Cards, Flats, and Parcels

* * * * *

110 Express Mail

113 Rates and Eligibility

* * * * *

Exhibit 1.3 Express Mail Rates—Same Day Airport Service Suspended

* * * * *

[Add an additional footnote, number 3, to Exhibit 1.3, Express Mail Rate Chart, as follows:]

3. For Sunday/holiday delivery, add $12.50.

* * * * *

[Renumber current 1.5 through 1.7 as new 1.6 through 1.8, and add new 1.5 as follows:]

1.5 Sunday and Holiday Premium

When delivery is guaranteed for a Sunday or holiday, there is a premium of $12.50, unless paying via an Express Mail Manifesting Agreement. Customers not desiring delivery on a Sunday or a holiday may avoid the premium by opting for guaranteed delivery on the subsequent delivery day.

* * * * *

700 Special Standards

* * * * *

705 Advanced Preparation and Special Postage Payment Systems

* * * * *

2.0 Manifest Mailing System

* * * * *

2.6 Express Mail Manifesting Agreements

* * * * *

2.6.3 Service Guarantee

* * * * *

[Revise current text to be identified as item b and add a new a as follows:]

a. Mailers using Express Mail Manifesting (EMM) receive Sunday/holiday guaranteed delivery at no additional charge without paying a premium.

* * * * *

Neva R. Watson,
Attorney, Legislative.

[FR Doc. E8-1775 Filed 1-31-08; 8:45 am]

BILLING CODE 7710-12-P